COMMITTEE FOR PURCHASE FROM PEOPLE WHO ARE BLIND OR SEVERELY DISABLED

Procurement List; Proposed Additions

AGENCY: Committee for Purchase From People Who Are Blind or Severely Disabled.

ACTION: Proposed Additions to Procurement List.

SUMMARY: The Committee is proposing to add to the Procurement List products and services to be furnished by nonprofit agencies employing persons who are blind or have other severe disabilities.

Comments Must Be Received On or Before: November 19, 2006.

ADDRESSES: Committee for Purchase From People Who Are Blind or Severely Disabled, Jefferson Plaza 2, Suite 10800, 1421 Jefferson Davis Highway, Arlington, Virginia 22202-3259.

For Further Information or to Submit Comments, Contact: Sheryl D. Kennerly, Telephone: (703) 603-7740, Fax: (703) 603-0655, or e-mail SKennerly@jwod.gov.

SUPPLEMENTARY INFORMATION: This notice is published pursuant to 41 U.S.C 47(a)(2) and 41 CFR 51-2.3. Its purpose is to provide interested persons an opportunity to submit comments on the proposed actions.

If the Committee approves the proposed additions, the entities of the Federal Government identified in the notice for each product or service will be required to procure the product and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

PRODUCTS

Product/NSN: Gloves, Flyers', Summer, Type GS/FRP-2; GS/FPP-2

8415-01-482-8417—Sage Green (Size 4)

8415-01-040-2012—Sage Green (Size 5)

8415-01-040-1453—Sage Green (Size 6)

8415-01-029-0109—Sage Green (Size 7)

8415-01-029-0111—Sage Green (Size 8)

8415-01-029-0112—Sage Green (Size 9)

8415-01-029-0113—Sage Green (Size 10)

8415-01-029-0116—Sage Green (Size 11)

8415-01-482-8420—Sage Green (Size 12)

8415-01-482-8688—Desert Tan (Size 4)

8415-01-461-4920—Desert Tan (Size 5)

8415-01-461-4922—Desert Tan (Size 6)

8415-01-461-4924—Desert Tan (Size 7)

8415-01-461-4932—Desert Tan (Size 8)

8415-01-461-4934—Desert Tan (Size 9)

8415-01-461-4940—Desert Tan (Size 10)

8415-01-461-4942—Desert Tan (Size 11)

8415-01-482-8690—Desert Tan (Size 12)

8415-01-482-8678—Black (Size 4)

8415-01-461-4962—Black (Size 5)

8415-01-461-4964—Black (Size 6)

8415-01-461-4966—Black (Size 7)

8415-01-461-4969—Black (Size 8)

8415-01-461-4970—Black (Size 9)

8415-01-461-4971—Black (Size 10)

8415-01-461-4981—Black (Size 11)

8415-01-482-8684—Black (Size 12)

NPA: South Texas Lighthouse for the Blind, Corpus Christi, Texas.

Contracting Activity: Defense Supply Center Philadelphia, Philadelphia, Pennsylvania.

Product/NSN: Vehicular, Safety Belt

2540-01-495-0817

NPA: BH Services, Inc., Rapid City, South Dakota.

Contracting Activity: Defense Supply Center Columbus, Columbus, Ohio.

Product/NSN: Forest Service Uniforms

Belt, Dress, 1½″ wide

8445-00-NSH-0003—Size 26 Wide

8445-00-NSH-0005—Size 28 Wide

8445-00-NSH-0007—Size 30 Wide

8445-00-NSH-0009—Size 32 Wide

8445-00-NSH-0011—Size 34 Wide

8445-00-NSH-0013—Size 36 Wide

8445-00-NSH-0015—Size 38 Wide

8445-00-NSH-0017—Size 40 Wide

8445-00-NSH-0019—Size 42 Wide

8445-00-NSH-0021—Size 44 Wide

8445-00-NSH-0023—Size 46 Wide

8445-00-NSH-0025—Size 48 Wide

8445-00-NSH-0027—Size 50 Wide

8445-00-NSH-0029—Size 52 Wide

8445-00-NSH-0031—Size 54 Wide

Belt, Dress, 1″ wide

8445-00-NSH-0004—Size 26 Narrow

8445-00-NSH-0006—Size 28 Narrow

8445-00-NSH-0008—Size 30 Narrow

8445-00-NSH-0010—Size 32 Narrow

8445-00-NSH-0012—Size 34 Narrow

8445-00-NSH-0014—Size 36 Narrow

8445-00-NSH-0016—Size 38 Narrow

8445-00-NSH-0018—Size 40 Narrow

8445-00-NSH-0020—Size 42 Narrow

8445-00-NSH-0022—Size 44 Narrow

8445-00-NSH-0024—Size 46 Narrow

8445-00-NSH-0026—Size 48 Narrow

8445-00-NSH-0028—Size 50 Narrow

8445-00-NSH-0030—Size 52 Narrow

8445-00-NSH-0032—Size 54 Narrow

Belt, Field

8445-00-NSH-0035—Size 26 Wide

8445-00-NSH-0037—Size 28 Wide

8445-00-NSH-0039—Size 30 Wide

8445-00-NSH-0041—Size 32 Wide

8445-00-NSH-0043—Size 34 Wide

8445-00-NSH-0045—Size 36 Wide

8445-00-NSH-0047—Size 38 Wide

8445-00-NSH-0049—Size 40 Wide

8445-00-NSH-0051—Size 42 Wide

8445-00-NSH-0053—Size 44 Wide

8445-00-NSH-0055—Size 46 Wide

8445-00-NSH-0057—Size 48 Wide

8445-00-NSH-0059—Size 50 Wide

8445-00-NSH-0061—Size 52 Wide

8445-00-NSH-0063—Size 54 Wide

Belt, Field, 1″ Narrow

8445-00-NSH-0036—Size 26 Narrow

8445-00-NSH-0038—Size 28 Narrow

8445-00-NSH-0040—Size 30 Narrow

8445-00-NSH-0042—Size 32 Narrow

8445-00-NSH-0044—Size 34 Narrow

8445-00-NSH-0046—Size 36 Narrow

8445-00-NSH-0048—Size 38 Narrow

8445-00-NSH-0050—Size 40 Narrow

8445-00-NSH-0052—Size 42 Narrow

8445-00-NSH-0054—Size 44 Narrow

8445-00-NSH-0056—Size 46 Narrow

8445-00-NSH-0058—Size 48 Narrow

8445-00-NSH-0060—Size 50 Narrow

8445-00-NSH-0062—Size 52 Narrow

8445-00-NSH-0064—Size 54 Narrow

Belt, Law Enforcement, Black Leather, 1½″

8445-00-NSH-0065—Size 24

8445-00-NSH-0066—Size 26

8445-00-NSH-0067—Size 28

8445-00-NSH-0068—Size 30

8445-00-NSH-0069—Size 32

8445-00-NSH-0070—Size 34

8445-00-NSH-0071—Size 36

8445-00-NSH-0072—Size 38

8445-00-NSH-0073—Size 40

8445-00-NSH-0074—Size 42

8445-00-NSH-0075—Size 44

8445-00-NSH-0076—Size 46

8445-00-NSH-0077—Size 48

8445-00-NSH-0078—Size 50

8445-00-NSH-0079—Size 52

8445-00-NSH-0080—Size 54

NPA: The Shangri-La Corporation, Salem, OR

Socks, Boot, Acrylic

8440-00-NSH-0002—Size 9 to 11

8440-00-NSH-0003—Size 11 to 13

Socks, Crew, Acrylic

8440-00-NSH-0001—Size 9 to 11

8440-00-NSH-0004—Size 11 to 13

NPA: Diverse Options, Inc., Ripon, WI

Buckle, Belt, USFS Standard

8405-00-NSH-0508—Size Small

8405-00-NSH-0509—Size Large

Buckle, Belt, Volunteer, Solid Bronze

8405-00-NSH-0514—One Size

Cap, Baseball, Mesh, Nylon

8405-00-NSH-0501—Size Medium/Large

8405-00-NSH-0502—Size X-Large

Cap, Baseball, SCSEP

8405-00-NSH-0542—Medium/Large

8405-00-NSH-0543—X-Large

Cap, Baseball, Twill

8405-00-NSH-0503—Size Medium/Large

8405-00-NSH-0504—Size X-Large

Cap, Baseball, Twill—Law Enforcement

8405-00-NSH-0605—One Size Fits All

Cap, Stocking

8405-00-NSH-0507—One Size

Cap, Trooper, Law Enforcement, Black, Acrylic Fur

8405-00-NSH-0588—Size Small

8405-00-NSH-0589—Size Medium

8405-00-NSH-0590—Size Large

8405-00-NSH-0591—Size X-Large

Cap, Volunteer, Mesh

8405-00-NSH-0510—Size Medium/Large

8405-00-NSH-0511—Size X-Large

Cap, Volunteer, Twill

8405-00-NSH-0512—Size Medium/Large

8405-00-NSH-0513—Size X-Large

Cargo Pants—Women

8410-00-NSH-6240—Size 6 Regular

8410-00-NSH-6242—Size 8 Regular

8410-00-NSH-6244—Size 10 Regular

8410-00-NSH-6246—Size 12 Regular

8410-00-NSH-6314—Size 14 Regular

8410-00-NSH-6315—Size 16 Regular

8410-00-NSH-6316—Size 18 Regular

8410-00-NSH-6317—Size 20 Regular

8410-00-NSH-6318—Size 22 Regular

8410-00-NSH-6319—Size 24 Regular

Coat, Honor Guard, Men's

8405-00-NSH-0851—Size 32 Short

8405-00-NSH-0852—Size 32 Regular

8405-00-NSH-0853—Size 34 Short

8405-00-NSH-0854—Size 34 Regular

8405-00-NSH-0855—Size 34 Long

8405-00-NSH-0856—Size 36 Short

8405-00-NSH-0857—Size 36 Regular

8405-00-NSH-0858—Size 36 Long

8405-00-NSH-0859—Size 38 Short

8405-00-NSH-0860—Size 38 Regular

8405-00-NSH-0861—Size 38 Long

8405-00-NSH-0862—Size 40 Short

8405-00-NSH-0863—Size 40 Regular

8405-00-NSH-0864—Size 40 Long

8405-00-NSH-0865—Size 42 Short

8405-00-NSH-0866—Size 42 Regular

8405-00-NSH-0867—Size 42 Long

8405-00-NSH-0868—Size 44 Short

8405-00-NSH-0869—Size 44 Regular

8405-00-NSH-0870—Size 44 Long

8405-00-NSH-0871—Size 46 Short

8405-00-NSH-0872—Size 46 Regular

8405-00-NSH-0873—Size 46 Long

8405-00-NSH-0874—Size 48 Regular

8405-00-NSH-0875—Size 48 Long

8405-00-NSH-0876—Size 50 Regular

8405-00-NSH-0877—Size 50 Long

8405-00-NSH-0878—Size 52 Regular

8405-00-NSH-0879—Size 52 Long

8405-00-NSH-0880—Size 54 Regular

8405-00-NSH-0881—Size 54 Long

8405-00-NSH-0882—Size 56 Regular

8405-00-NSH-0883—Size 56 Long

Coat, Honor Guard, Women's

8410-00-NSH-6148—Size 4

8410-00-NSH-6149—Size 6

8410-00-NSH-6150—Size 8

8410-00-NSH-6151—Size 14

8410-00-NSH-6152—Size 16

8410-00-NSH-6153—Size 18

8410-00-NSH-6154—Size 20

8410-00-NSH-6155—Size 22

8410-00-NSH-6156—Size 24

8410-00-NSH-6289—Size 10

8410-00-NSH-6290—Size 12

Coat, Wool Cruiser, Unisex

8405-00-NSH-0072—Size 34 Regular

8405-00-NSH-0084—Size 34 Long

8405-00-NSH-0196—Size 36 Regular

8405-00-NSH-0197—Size 36 Long

8405-00-NSH-0198—Size 38 Regular

8405-00-NSH-0199—Size 38 Long

8405-00-NSH-0200—Size 40 Regular

8405-00-NSH-0201—Size 40 Long

8405-00-NSH-0202—Size 42 Regular

8405-00-NSH-0203—Size 42 Long

8405-00-NSH-0204—Size 44 Regular

8405-00-NSH-0205—Size 44 Long

8405-00-NSH-0206—Size 46 Regular

8405-00-NSH-0207—Size 46 Long

8405-00-NSH-0208—Size 48 Regular

8405-00-NSH-0209—Size 48 Long

8405-00-NSH-0210—Size 50 Regular

8405-00-NSH-0211—Size 50 Long

8405-00-NSH-0920—Size 32 Regular

8405-00-NSH-0921—Size 32 Long

Coveralls, Unisex, Cotton

8405-00-NSH-0251—Size Medium Short 27″ inseam

8405-00-NSH-0252—Size Medium Regular 29″ inseam

8405-00-NSH-0254—Size Large Short

8405-00-NSH-0255—Size Large Regular

8405-00-NSH-0256—Size X-Large Tall

8405-00-NSH-0257—Size X-Large Short

8405-00-NSH-0258—Size X-Large Regular

8405-00-NSH-0259—Size XX-Large Tall

8405-00-NSH-0261—Size XX-Large Regular

8405-00-NSH-0263—Size XXX-Large Regular

8405-00-NSH-1058—Size Large Tall 31″ inseam

8405-00-NSH-1059—Size XX-Large Short

Cruiser, Poly/Cotton, Unisex

8405-00-NSH-0220—Size 34 Regular

8405-00-NSH-0221—Size 36 Regular

8405-00-NSH-0222—Size 38 Regular

8405-00-NSH-0223—Size 38 Long

8405-00-NSH-0224—Size 40 Regular

8405-00-NSH-0225—Size 40 Long

8405-00-NSH-0226—Size 42 Regular

8405-00-NSH-0227—Size 42 Long

8405-00-NSH-0228—Size 44 Regular

8405-00-NSH-0229—Size 44 Long

8405-00-NSH-0230—Size 46 Regular

8405-00-NSH-0231—Size 46 Long

8405-00-NSH-0232—Size 48 Regular

8405-00-NSH-0233—Size 48 Long

8405-00-NSH-0234—Size 50 Regular

8405-00-NSH-0235—Size 50 Long

8405-00-NSH-0236—Size 52 Regular

8405-00-NSH-0237—Size 54 Regular

Dress Blouse Coat—Men's

8405-00-NSH-0608—Size 32 short

8405-00-NSH-0609—Size 34 short

8405-00-NSH-0610—Size 36 short

8405-00-NSH-0611—Size 38 short

8405-00-NSH-0612—Size 40 short

8405-00-NSH-0613—Size 42 short

8405-00-NSH-0614—Size 44 short

8405-00-NSH-0615—Size 46 short

8405-00-NSH-0616—Size 32 Regular

8405-00-NSH-0617—Size 34 Regular

8405-00-NSH-0618—Size 36 Regular

8405-00-NSH-0619—Size 38 Regular

8405-00-NSH-0620—Size 40 Regular

8405-00-NSH-0621—Size 42 Regular

8405-00-NSH-0622—Size 44 Regular

8405-00-NSH-0623—Size 46 Regular

8405-00-NSH-0624—Size 48 Regular

8405-00-NSH-0625—Size 50 Regular

8405-00-NSH-0626—Size 52 Regular

8405-00-NSH-0627—Size 54 Regular

8405-00-NSH-0628—Size 56 Regular

8405-00-NSH-0629—Size 58 Regular

8405-00-NSH-0630—Size 60 Regular

8405-00-NSH-0631—Size 32 Long

8405-00-NSH-0632—Size 34 Long

8405-00-NSH-0633—Size 36 Long

8405-00-NSH-0634—Size 38 Long

8405-00-NSH-0635—Size 40 Long

8405-00-NSH-0636—Size 42 Long

8405-00-NSH-0637—Size 44 Long

8405-00-NSH-0638—Size 46 Long

8405-00-NSH-0639—Size 48 Long

8405-00-NSH-0640—Size 50 Long

8405-00-NSH-0641—Size 52 Long

8405-00-NSH-0642—Size 54 Long

8405-00-NSH-0643—Size 56 Long

8405-00-NSH-0644—Size 58 Long

8405-00-NSH-0645—Size 60 Long

Dress Blouse Coat—Women's

8410-00-NSH-5976—Size 4

8410-00-NSH-5978—Size 6

8410-00-NSH-5981—Size 8

8410-00-NSH-5984—Size 10

8410-00-NSH-5987—Size 12

8410-00-NSH-6107—Size 14

8410-00-NSH-6108—Size 16

8410-00-NSH-6109—Size 18

8410-00-NSH-6110—Size 20

8410-00-NSH-6111—Size 22

8410-00-NSH-6123—Size 24

Dress IKE Jacket—Men

8405-00-NSH-0818—Size 34 Regular

8405-00-NSH-0819—Size 36 Short

8405-00-NSH-0820—Size 36 Regular

8405-00-NSH-0821—Size 36 Long

8405-00-NSH-0822—Size 38 Short

8405-00-NSH-0823—Size 38 Regular

8405-00-NSH-0824—Size 38 Long

8405-00-NSH-0825—Size 40 Short

8405-00-NSH-0826—Size 40 Regular

8405-00-NSH-0827—Size 40 Long

8405-00-NSH-0828—Size 42 short

8405-00-NSH-0829—Size 42 Regular

8405-00-NSH-0830—Size 42 Long

8405-00-NSH-0831—Size 44 short

8405-00-NSH-0832—Size 44 Regular

8405-00-NSH-0833—Size 44 Long

8405-00-NSH-0834—Size 46 Short

8405-00-NSH-0835—Size 46 Regular

8405-00-NSH-0836—Size 46 Long

8405-00-NSH-0837—Size 48 Regular

8405-00-NSH-0838—Size 48 Long

8405-00-NSH-0839—Size 50 Regular

8405-00-NSH-0840—Size 50 Long

8405-00-NSH-0841—Size 52 Regular

8405-00-NSH-0842—Size 52 Long

8405-00-NSH-0843—Size 54 Regular

8405-00-NSH-0844—Size 54 Long

8405-00-NSH-0845—Size 56 Regular

8405-00-NSH-0846—Size 56 Long

8405-00-NSH-0847—Size 58 Regular

8405-00-NSH-0848—Size 58 Long

8405-00-NSH-0849—Size 60 Regular

8405-00-NSH-0850—Size 60 Long

Dress IKE Jacket—Women

8410-00-NSH-6124—Size 4

8410-00-NSH-6125—Size 6

8410-00-NSH-6126—Size 8

8410-00-NSH-6127—Size 10

8410-00-NSH-6128—Size 12

8410-00-NSH-6129—Size 14

8410-00-NSH-6130—Size 16

8410-00-NSH-6131—Size 18

8410-00-NSH-6132—Size 20

8410-00-NSH-6146—Size 22

8410-00-NSH-6147—Size 24

Gaiters, Unisex

8405-00-NSH-0246—Size Small

8405-00-NSH-0247—Size Regular

8405-00-NSH-0248—Size X-Wide

Hat, Felt

8405-00-NSH-0458—Size 6⅝ Regular

8405-00-NSH-0459—Size 6⅝ Long Oval

8405-00-NSH-0460—Size 6¾ Regular

8405-00-NSH-0461—Size 6¾ Long Oval

8405-00-NSH-0462—Size 6⅞ Regular

8405-00-NSH-0463—Size 6⅞ Long Oval

8405-00-NSH-0464—Size 7Regular

8405-00-NSH-0465—Size 7 Long Oval

8405-00-NSH-0466—Size 7⅛ Regular

8405-00-NSH-0467—Size 7⅛ Long Oval

8405-00-NSH-0468—Size 7¼ Regular

8405-00-NSH-0469—Size 7¼ Long Oval

8405-00-NSH-0470—Size 7⅜ Regular

8405-00-NSH-0471—Size 7⅜ Long Oval

8405-00-NSH-0472—Size 7½ Regular

8405-00-NSH-0473—Size 7½ Long Oval

8405-00-NSH-0474—Size 7⅝ Regular

8405-00-NSH-0475—Size 7⅝ Long Oval

8405-00-NSH-0476—Size 7¾ Regular

8405-00-NSH-0477—Size 7¾ Long Oval

8405-00-NSH-0478—Size 7⅞ Regular

8405-00-NSH-0479—Size 7⅞ Long Oval

Hat, Polar, Winter

8405-00-NSH-0505—Size Medium/Large

8405-00-NSH-0506—Size Large/X-Large

Hat, Straw

8405-00-NSH-0480—Size 6⅝ Regular

8405-00-NSH-0481—Size 6¾ Regular

8405-00-NSH-0482—Size 6¾ Long Oval

8405-00-NSH-0483—Size 6⅞ Regular

8405-00-NSH-0484—Size 6⅞ Long Oval

8405-00-NSH-0485—Size 7 Regular

8405-00-NSH-0486—Size 7 Long Oval

8405-00-NSH-0487—Size 7⅛ Regular

8405-00-NSH-0488—Size 7⅛ Long Oval

8405-00-NSH-0489—Size 7¼ Regular

8405-00-NSH-0490—Size 7¼ Long Oval

8405-00-NSH-0491—Size 7⅜ Regular

8405-00-NSH-0492—Size 7⅜ Long Oval

8405-00-NSH-0493—Size 7½ Regular

8405-00-NSH-0494—Size 7½ Long Oval

8405-00-NSH-0495—Size 7⅝ Regular

8405-00-NSH-0496—Size 7⅝ Long Oval

8405-00-NSH-0497—Size 7¾ Regular

8405-00-NSH-0498—Size 7¾ Long Oval

8405-00-NSH-0499—Size 7⅞ Regular

8405-00-NSH-0500—Size 7⅞ Long Oval

Jacket, Fleece, Men's

8405-00-NSH-0337—Size Small Regular

8405-00-NSH-0338—Size Medium Regular

8405-00-NSH-0339—Size Large Regular

8405-00-NSH-0340—Size X-Large Regular

8405-00-NSH-0341—Size XX-Large Regular

8405-00-NSH-0342—Size XXX-Large Regular

8405-00-NSH-0927—Size Small Long

8405-00-NSH-0928—Size Medium Long

8405-00-NSH-0929—Size Large Long

8405-00-NSH-0930—Size X-Large Long

Jacket, Fleece, Women's

8410-00-NSH-6142—Size Small

8410-00-NSH-6143—Size Medium

8410-00-NSH-6144—Size Large

8410-00-NSH-6145—Size X-Large

8410-00-NSH-6288—Size X-Small

Jacket, Law Enforcement, Black

8405-00-NSH-0603—Size Small Short

8405-00-NSH-0604—Size Medium Short

8405-00-NSH-0987—Size Small Regular

8405-00-NSH-0988—Size Small Long

8405-00-NSH-0989—Size Medium Regular

8405-00-NSH-0990—Size Medium Long

8405-00-NSH-0991—Size Large Short

8405-00-NSH-0992—Size Large Regular

8405-00-NSH-0993—Size Large Long

8405-00-NSH-0994—Size X-Large Regular

8405-00-NSH-0995—Size X-Large Long

8405-00-NSH-0996—Size XX-Large Regular

8405-00-NSH-0997—Size XX-Large Long

8405-00-NSH-0998—Size XXX-Large Regular

8405-00-NSH-0999—Size XXX-Large Long

Jacket, Men's 3-Season

8405-00-NSH-0318—Size Small Regular

8405-00-NSH-0319—Size Medium Regular

8405-00-NSH-0320—Size Medium Long

8405-00-NSH-0321—Size Large Regular

8405-00-NSH-0322—Size Large Long

8405-00-NSH-0323—Size X-Large Regular

8405-00-NSH-0324—Size X-Large Long

8405-00-NSH-0325—Size XX-Large Regular

8405-00-NSH-0326—Size XX-Large Long

8405-00-NSH-0926—Size Small Long

Jacket, Men's Ski, Gore-Tex

8405-00-NSH-0960—Size Small Regular

8405-00-NSH-0961—Size Medium Regular

8405-00-NSH-0962—Size Medium Long

8405-00-NSH-0963—Size Large Regular

8405-00-NSH-0964—Size Large Long

8405-00-NSH-0965—Size X-Large Regular

8405-00-NSH-0966—Size X-Large Long

8405-00-NSH-0967—Size XX-Large Regular

8405-00-NSH-0968—Size XXX-Large Regular

Jacket, Rain/Wind, Unisex

8405-00-NSH-0931—Size X-Small Regular

8405-00-NSH-0932—Size Small Regular

8405-00-NSH-0933—Size Medium Regular

8405-00-NSH-0934—Size Medium Tall

8405-00-NSH-0935—Size Large Regular

8405-00-NSH-0936—Size Large Tall

8405-00-NSH-0937—Size X-Large Regular

8405-00-NSH-0938—Size X-Large Tall

8405-00-NSH-0939—Size XX-Large Regular

8405-00-NSH-0940—Size XX-Large Tall

8405-00-NSH-0941—Size XXX-Large Regular

8405-00-NSH-0942—Size XXX-Large Tall

Jacket, Women's 3-Season

8410-00-NSH-6133—Size X-Small

8410-00-NSH-6134—Size Small

8410-00-NSH-6135—Size Medium

8410-00-NSH-6136—Size Large

8410-00-NSH-6137—Size XX-Large

Jacket, Women's Ski, Gore-Tex

8410-00-NSH-6173—Size Small

8410-00-NSH-6174—Size Medium

8410-00-NSH-6175—Size Large

Jeans, Field, Cotton, Women's

8410-00-NSH-6031—Size 4 Regular

8410-00-NSH-6032—Size 4 Petite

8410-00-NSH-6033—Size 6 Regular

8410-00-NSH-6034—Size 6 Petite

8410-00-NSH-6035—Size 8 Regular

8410-00-NSH-6036—Size 8 Petite

8410-00-NSH-6037—Size 8 Tall

8410-00-NSH-6038—Size 10 Regular

8410-00-NSH-6039—Size 10 Petite

8410-00-NSH-6040—Size 10 Tall

8410-00-NSH-6041—Size 12 Regular

8410-00-NSH-6042—Size 12 Petite

8410-00-NSH-6043—Size 12 Tall

8410-00-NSH-6044—Size 14 Regular

8410-00-NSH-6045—Size 14 Petite

8410-00-NSH-6046—Size 14 Tall

8410-00-NSH-6047—Size 16 Regular

8410-00-NSH-6048—Size 16 Tall

8410-00-NSH-6049—Size 18 Regular

8410-00-NSH-6050—Size 18 Tall

8410-00-NSH-6051—Size 20 Regular

8410-00-NSH-6052—Size 20 Tall

8410-00-NSH-6053—Size 22 Regular

8410-00-NSH-6054—Size 22 Tall

8410-00-NSH-6055—Size 24 Regular

Jeans, Field, Cotton, Men's

8405-00-NSH-0127—Size 28 Regular

8405-00-NSH-0128—Size 29 Regular

8405-00-NSH-0129—Size 30 Regular

8405-00-NSH-0130—Size 31 Regular

8405-00-NSH-0131—Size 32 Regular

8405-00-NSH-0132—Size 32 Long

8405-00-NSH-0133—Size 33 Regular

8405-00-NSH-0134—Size 34 Regular

8405-00-NSH-0135—Size 34 Long

8405-00-NSH-0136—Size 35 Regular

8405-00-NSH-0137—Size 36 Regular

8405-00-NSH-0138—Size 36 Long

8405-00-NSH-0139—Size 37 Regular

8405-00-NSH-0140—Size 38 Regular

8405-00-NSH-0141—Size 38 Long

8405-00-NSH-0142—Size 40 Regular

8405-00-NSH-0143—Size 40 Long

8405-00-NSH-0144—Size 42 Regular

8405-00-NSH-0145—Size 42 Long

8405-00-NSH-0146—Size 44 Regular

8405-00-NSH-0147—Size 44 Long

8405-00-NSH-0148—Size 46 Regular

8405-00-NSH-0149—Size 46 Long

8405-00-NSH-0150—Size 48 Regular

8405-00-NSH-0151—Size 50 Regular

8405-00-NSH-0152—Size 52 Regular

8405-00-NSH-0153—Size 54 Regular

Jeans, Field, Lined, Men's

8405-00-NSH-0273—Size 28 Regular

8405-00-NSH-0275—Size 30 Regular

8405-00-NSH-0277—Size 32 Regular

8405-00-NSH-0278—Size 32 Long

8405-00-NSH-0280—Size 34 Regular

8405-00-NSH-0281—Size 34 Long

8405-00-NSH-0283—Size 36 Regular

8405-00-NSH-0284—Size 36 Long

8405-00-NSH-0286—Size 38 Regular

8405-00-NSH-0287—Size 38 Long

8405-00-NSH-0288—Size 40 Regular

8405-00-NSH-0289—Size 40 Long

8405-00-NSH-0290—Size 42 Regular

8405-00-NSH-0291—Size 42 Long

8405-00-NSH-0292—Size 44 Regular

8405-00-NSH-0293—Size 44 Long

8405-00-NSH-0294—Size 46 Regular

8405-00-NSH-0295—Size 46 Long

8405-00-NSH-0296—Size 48 Regular

8405-00-NSH-0297—Size 50 Regular

8405-00-NSH-0298—Size 52 Regular

8405-00-NSH-0299—Size 54 Regular

Jeans, Field, Lined, Women's

8410-00-NSH-6112—Size 4

8410-00-NSH-6113—Size 6

8410-00-NSH-6114—Size 8

8410-00-NSH-6115—Size 10

8410-00-NSH-6116—Size 12

8410-00-NSH-6117—Size 14

8410-00-NSH-6118—Size 16

8410-00-NSH-6119—Size 18

8410-00-NSH-6120—Size 20

8410-00-NSH-6121—Size 22

8410-00-NSH-6122—Size 24

Jeans, Field, Poly/Cotton, Women's

8410-00-NSH-6006—Size 4 Regular

8410-00-NSH-6007—Size 4 Petite

8410-00-NSH-6008—Size 6 Regular

8410-00-NSH-6009—Size 6 Petite

8410-00-NSH-6010—Size 8 Regular

8410-00-NSH-6011—Size 8 Petite

8410-00-NSH-6012—Size 8 Tall

8410-00-NSH-6013—Size 10 Regular

8410-00-NSH-6014—Size 10 Petite

8410-00-NSH-6015—Size 10 Tall

8410-00-NSH-6016—Size 12 Regular

8410-00-NSH-6017—Size 12 Petite

8410-00-NSH-6018—Size 12 Tall

8410-00-NSH-6019—Size 14 Regular

8410-00-NSH-6020—Size 14 Petite

8410-00-NSH-6021—Size 14 Tall

8410-00-NSH-6022—Size 16 Regular

8410-00-NSH-6023—Size 16 Tall

8410-00-NSH-6024—Size 18 Regular

8410-00-NSH-6025—Size 18 Tall

8410-00-NSH-6026—Size 20 Regular

8410-00-NSH-6027—Size 20 Tall

8410-00-NSH-6028—Size 22 Regular

8410-00-NSH-6029—Size 22 Tall

8410-00-NSH-6030—Size 24 Regular

Jeans, Field, Polyester/Cotton, Men's

8405-00-NSH-0100—Size 28 Regular

8405-00-NSH-0101—Size 29 Regular

8405-00-NSH-0102—Size 30 Regular

8405-00-NSH-0103—Size 31 Regular

8405-00-NSH-0104—Size 32 Regular

8405-00-NSH-0105—Size 32 Long

8405-00-NSH-0106—Size 33 Regular

8405-00-NSH-0107—Size 34 Regular

8405-00-NSH-0108—Size 34 Long

8405-00-NSH-0109—Size 35 Regular

8405-00-NSH-0110—Size 36 Regular

8405-00-NSH-0111—Size 36 Long

8405-00-NSH-0112—Size 37 Regular

8405-00-NSH-0113—Size 38 Regular

8405-00-NSH-0114—Size 38 Long

8405-00-NSH-0115—Size 40 Regular

8405-00-NSH-0116—Size 40 Long

8405-00-NSH-0117—Size 42 Regular

8405-00-NSH-0118—Size 42 Long

8405-00-NSH-0119—Size 44 Regular

8405-00-NSH-0120—Size 44 Long

8405-00-NSH-0121—Size 46 Regular

8405-00-NSH-0122—Size 46 Long

8405-00-NSH-0123—Size 48 Regular

8405-00-NSH-0124—Size 50 Regular

8405-00-NSH-0125—Size 52 Regular

8405-00-NSH-0126—Size 54 Regular

Nameplate, Gold Plated

8455-00-NSH-0009

Patch

8455-00-NSH-0023 Large (Pkg. 10)

8455-00-NSH-0024 Small LE Badge/Patch (Pkg. 10)

Pants, Cargo Men's LE

8405-00-NSH-0696—Size 34 Long

8405-00-NSH-0697—Size 36 Long

8405-00-NSH-1000—Size 28 Regular

8405-00-NSH-1013—Size 46 Regular

8405-00-NSH-1014—Size 48 Regular

8405-00-NSH-1015—Size 50 Regular

8405-00-NSH-1016—Size 52 Regular

8405-00-NSH-1017—Size 54 Regular

8405-00-NSH-1055—Size 38 Long

8405-00-NSH-1056—Size 40 Long

8405-00-NSH-1057—Size 42 Long

8405-00-NSH-1079—Size 44 Regular

8405-00-NSH-1080—Size 42 Regular

8405-00-NSH-1081—Size 40 Regular

8405-00-NSH-1082—Size 37 Regular

8405-00-NSH-1083—Size 36 Regular

8405-00-NSH-1084—Size 30 Regular

8405-00-NSH-1085—Size 31 Regular

8405-00-NSH-1086—Size 32 Regular

8405-00-NSH-1087—Size 33 Regular

8405-00-NSH-1088—Size 34 Regular

8405-00-NSH-1089—Size 35 Regular

8405-00-NSH-1090—Size 38 Regular

Pants, Casual, Men's

8405-00-NSH-0178—Size 29 Regular

8405-00-NSH-0179—Size 30 Regular

8405-00-NSH-0180—Size 31 Regular

8405-00-NSH-0181—Size 32 Regular

8405-00-NSH-0182—Size 33 Regular

8405-00-NSH-0183—Size 34 Regular

8405-00-NSH-0184—Size 35 Regular

8405-00-NSH-0185—Size 36 Regular

8405-00-NSH-0186—Size 37 Regular

8405-00-NSH-0187—Size 38 Regular

8405-00-NSH-0188—Size 40 Regular

8405-00-NSH-0189—Size 42 Regular

8405-00-NSH-0190—Size 44 Regular

8405-00-NSH-0191—Size 46 Regular

8405-00-NSH-0192—Size 48 Regular

8405-00-NSH-0193—Size 50 Regular

8405-00-NSH-0194—Size 52 Regular

8405-00-NSH-0195—Size 54 Regular

Pants, Casual, Women's

8410-00-NSH-6096—Size 6

8410-00-NSH-6097—Size 8

8410-00-NSH-6098—Size 10

8410-00-NSH-6099—Size 12

8410-00-NSH-6100—Size 14

8410-00-NSH-6101—Size 16

8410-00-NSH-6102—Size 18

8410-00-NSH-6103—Size 20

8410-00-NSH-6104—Size 22

8410-00-NSH-6105—Size 24

8410-00-NSH-6106—Size 26

Pants, Field, Wool Men's

8405-00-NSH-1091—Size 28

8405-00-NSH-1092—Size 30

8405-00-NSH-1093—Size 32

8405-00-NSH-1094—Size 34

8405-00-NSH-1095—Size 36

8405-00-NSH-1096—Size 38

8405-00-NSH-1097—Size 40

8405-00-NSH-1098—Size 42

Pants, Field, Wool Women's

8410-00-NSH-6323—Size 8

8410-00-NSH-6324—Size 10

8410-00-NSH-6325—Size 12

8410-00-NSH-6326—Size 14

8410-00-NSH-6327—Size 16

Pants, Fleece, Men's

8405-00-NSH-0368—Size Small

8405-00-NSH-0369—Size Medium

8405-00-NSH-0370—Size Large

8405-00-NSH-0371—Size X-Large

8405-00-NSH-0372—Size XX-Large

Pants, Fleece, Women's

8410-00-NSH-6166—Size X-Small

8410-00-NSH-6167—Size Small

8410-00-NSH-6168—Size Medium

8410-00-NSH-6169—Size Large

8410-00-NSH-6170—Size X-Large

Pants, Rain/Wind

8405-00-NSH-0943—Size X-Small Short

8405-00-NSH-0944—Size Small Short

8405-00-NSH-0945—Size Small Regular

8405-00-NSH-0946—Size Medium Short

8405-00-NSH-0947—Size Medium Regular

8405-00-NSH-0948—Size Medium Tall

8405-00-NSH-0949—Size Large Short

8405-00-NSH-0950—Size Large Regular

8405-00-NSH-0951—Size Large Tall

8405-00-NSH-0952—Size X-Large Short

8405-00-NSH-0953—Size X-Large Regular

8405-00-NSH-0954—Size X-Large Tall

8405-00-NSH-0955—Size XX-Large Short

8405-00-NSH-0956—Size XX-Large Regular FP1-2>8405-00-NSH-0957—Size XX-Large Tall

8405-00-NSH-0958—Size XXX-Large Regular

8405-00-NSH-0959—Size XXX-Large Tall

Parka, Men's w/detachable hood

8405-00-NSH-0300—Size Small Regular

8405-00-NSH-0301—Size Small Long

8405-00-NSH-0302—Size Medium Regular

8405-00-NSH-0303—Size Medium Long

8405-00-NSH-0304—Size Large Regular

8405-00-NSH-0305—Size Large Long

8405-00-NSH-0306—Size X-Large Regular

8405-00-NSH-0307—Size X-Large Long

8405-00-NSH-0308—Size XX-Large Regular

8405-00-NSH-0309—Size XXX-Large Regular

8405-00-NSH-0310—Size XXXX-Large Regular

Plastic Name Plate

8455-00-NSH-0010

SCSEP Patches (pkg. of 10)

8455-00-NSH-0013

Shirt, Maternity, Long Sleeve

8410-00-NSH-6178—Size 32 Long

8410-00-NSH-6179—Size 34 Long

8410-00-NSH-6180—Size 36 Long

8410-00-NSH-6181—Size 38 Regular

8410-00-NSH-6182—Size 38 Long

8410-00-NSH-6183—Size 40 Regular

8410-00-NSH-6184—Size 40 Long

8410-00-NSH-6185—Size 42 Regular

8410-00-NSH-6186—Size 42 Long

8410-00-NSH-6187—Size 44 Regular

8410-00-NSH-6188—Size 44 Long

8410-00-NSH-6189—Size 46 Regular

8410-00-NSH-6190—Size 46 Long

8410-00-NSH-6191—Size 48 Regular

8410-00-NSH-6192—Size 48 Long

8410-00-NSH-6248—Size 28 Regular

8410-00-NSH-6249—Size 30 Regular

8410-00-NSH-6250—Size 32 Regular

8410-00-NSH-6251—Size 34 Regular

8410-00-NSH-6252—Size 36 Regular

Shirt, Maternity, Short Sleeve

8410-00-NSH-6193—Size 32 Long

8410-00-NSH-6194—Size 34 Long

8410-00-NSH-6195—Size 36 Long

8410-00-NSH-6196—Size 38 Regular

8410-00-NSH-6197—Size 38 Long

8410-00-NSH-6198—Size 40 Regular

8410-00-NSH-6200—Size 40 Long

8410-00-NSH-6202—Size 42 Regular

8410-00-NSH-6204—Size 42 Long

8410-00-NSH-6205—Size 44 Regular

8410-00-NSH-6207—Size 44 Long

8410-00-NSH-6208—Size 46 Regular

8410-00-NSH-6210—Size 46 Long

8410-00-NSH-6211—Size 48 Regular

8410-00-NSH-6213—Size 48 Long

8410-00-NSH-6253—Size 28 Regular

8410-00-NSH-6254—Size 30 Regular

8410-00-NSH-6255—Size 32 Regular

8410-00-NSH-6256—Size 34 Regular

8410-00-NSH-6257—Size 36 Regular

Shirt, Men's Cotton, Long Sleeve

8405-00-NSH-0041—Size 14 w/31 inch sleeve

8405-00-NSH-0042—Size 14 w/32 inch sleeve

8405-00-NSH-0043—Size 14 w/33 inch sleeve

8405-00-NSH-0044—Size 14 w/34 inch sleeve

8405-00-NSH-0045—Size 14 w/35 inch sleeve

8405-00-NSH-0046—Size 14 w/36 inch sleeve

8405-00-NSH-0213—Size 14 w/37 inch sleeve

8405-00-NSH-0214—Size 14½ w/31 inch sleeve

8405-00-NSH-0215—Size 14½ w/32 inch sleeve

8405-00-NSH-0216—Size 14½ w/33 inch sleeve

8405-00-NSH-0217—Size 14½ w/34 inch sleeve

8405-00-NSH-0218—Size 14½ w/35 inch sleeve

8405-00-NSH-0219—Size 14½ w/36 inch sleeve

8405-00-NSH-0249—Size 14½ w/37 inch sleeve

8405-00-NSH-0250—Size 15 w/31 inch sleeve

8405-00-NSH-0253—Size 15 w/32 inch sleeve

8405-00-NSH-0260—Size 15 w/33 inch sleeve

8405-00-NSH-0274—Size 15 w/34 inch sleeve

8405-00-NSH-0276—Size 15 w/35 inch sleeve

8405-00-NSH-0279—Size 15 w/36 inch sleeve

8405-00-NSH-0282—Size 15 w/37 inch sleeve

8405-00-NSH-0285—Size 15½ w/31 inch sleeve

8405-00-NSH-0328—Size 15½ w/32 inch sleeve

8405-00-NSH-0343—Size 15½ w/33 inch sleeve

8405-00-NSH-0344—Size 15½ w/34 inch sleeve

8405-00-NSH-0345—Size 15½ w/35 inch sleeve

8405-00-NSH-0346—Size 15½ w/36 inch sleeve

8405-00-NSH-0347—Size 15½ w/37 inch sleeve

8405-00-NSH-0348—Size 16 w/31 inch sleeve

8405-00-NSH-0349—Size 16 w/32 inch sleeve

8405-00-NSH-0350—Size 16 w/33 inch sleeve

8405-00-NSH-0351—Size 16 w/34 inch sleeve

8405-00-NSH-0352—Size 16 w/35 inch sleeve

8405-00-NSH-0353—Size 16 w/36 inch sleeve

8405-00-NSH-0354—Size 16 w/37 inch sleeve

8405-00-NSH-0355—Size 16½ w/31 inch sleeve

8405-00-NSH-0356—Size 16½ w/32 inch sleeve

8405-00-NSH-0357—Size 16½ w/33 inch sleeve

8405-00-NSH-0358—Size 16½ w/34 inch sleeve

8405-00-NSH-0359—Size 16½ w/35 inch sleeve

8405-00-NSH-0360—Size 16½ w/36 inch sleeve

8405-00-NSH-0361—Size 16½ w/37 inch sleeve

8405-00-NSH-0362—Size 17 w/31 inch sleeve

8405-00-NSH-0363—Size 17 w/32 inch sleeve

8405-00-NSH-0364—Size 17 w/33 inch sleeve

8405-00-NSH-0365—Size 17 w/34 inch sleeve

8405-00-NSH-0366—Size 17 w/35 inch sleeve

8405-00-NSH-0367—Size 17 w/36 inch sleeve

8405-00-NSH-0373—Size 17 w/37 inch sleeve

8405-00-NSH-0374—Size 17½ w/31 inch sleeve

8405-00-NSH-0375—Size 17½ w/32 inch sleeve

8405-00-NSH-0376—Size 17½ w/33 inch sleeve

8405-00-NSH-0377—Size 17½ w/34 inch sleeve

8405-00-NSH-0378—Size 17½ w/35 inch sleeve

8405-00-NSH-0379—Size 17½ w/36 inch sleeve

8405-00-NSH-0380—Size 17½ w/37 inch sleeve

8405-00-NSH-0381—Size 18 w/31 inch sleeve

8405-00-NSH-0382—Size 18 w/32 inch sleeve

8405-00-NSH-0383—Size 18 w/33 inch sleeve

8405-00-NSH-0384—Size 18 w/34 inch sleeve

8405-00-NSH-0385—Size 18 w/35 inch sleeve

8405-00-NSH-0386—Size 18 w/36 inch sleeve

8405-00-NSH-0387—Size 18 w/37 inch sleeve

8405-00-NSH-0388—Size 18½ w/31 inch sleeve

8405-00-NSH-0389—Size 18½ w/32 inch sleeve

8405-00-NSH-0390—Size 18½ w/33 inch sleeve

8405-00-NSH-0391—Size 18½ w/34 inch sleeve

8405-00-NSH-0392—Size 18½ w/35 inch sleeve

8405-00-NSH-0393—Size 18½ w/36 inch sleeve

8405-00-NSH-0394—Size 18½ w/37 inch sleeve

8405-00-NSH-0395—Size 19 w/31 inch sleeve

8405-00-NSH-0396—Size 19 w/32 inch sleeve

8405-00-NSH-0397—Size 19 w/33 inch sleeve

8405-00-NSH-0398—Size 19 w/34 inch sleeve

8405-00-NSH-0399—Size 19 w/35 inch sleeve

8405-00-NSH-0400—Size 19 w/36 inch sleeve

8405-00-NSH-0401—Size 19 w/37 inch sleeve

Shirt, Men's Cotton, Short Sleeve

8405-00-NSH-0047—Size Small Regular

8405-00-NSH-0048—Size Medium Regular

8405-00-NSH-0049—Size Large Regular

8405-00-NSH-0050—Size X-Large Regular

8405-00-NSH-0051—Size XX-Large Regular

8405-00-NSH-0052—Size XXX-Large Regular

8405-00-NSH-0054—Size Medium Long

8405-00-NSH-0056—Size Large Long

8405-00-NSH-0058—Size X-Large Long

8405-00-NSH-0060—Size XX-Large Long

Shirt, Men's Poly/Cotton, Long Sleeve

8405-00-NSH-0160—Size 14 w/31 inch sleeve

8405-00-NSH-0161—Size 14 w/32 inch sleeve

8405-00-NSH-0162—Size 14 w/33 inch sleeve

8405-00-NSH-0163—Size 14 w/34 inch sleeve

8405-00-NSH-0164—Size 14 w/35 inch sleeve

8405-00-NSH-0165—Size 14 w/36 inch sleeve

8405-00-NSH-0402—Size 14 w/37 inch sleeve

8405-00-NSH-0403—Size 14½ w/31 inch sleeve

8405-00-NSH-0404—Size 14½ w/32 inch sleeve

8405-00-NSH-0405—Size 14½ w/33 inch sleeve

8405-00-NSH-0406—Size 14½ w/34 inch sleeve

8405-00-NSH-0407—Size 14½ w/35 inch sleeve

8405-00-NSH-0408—Size 14½ w/36 inch sleeve

8405-00-NSH-0535—Size 14½ w/37 inch sleeve

8405-00-NSH-0536—Size 15 w/31 inch sleeve

8405-00-NSH-0541—Size 15 w/32 inch sleeve

8405-00-NSH-0592—Size 15 w/33 inch sleeve

8405-00-NSH-0593—Size 15 w/34 inch sleeve

8405-00-NSH-0596—Size 15 w/35 inch sleeve

8405-00-NSH-0597—Size 15 w/36 inch sleeve

8405-00-NSH-0646—Size 15 w/37 inch sleeve

8405-00-NSH-0647—Size 15½ w/31 inch sleeve

8405-00-NSH-0654—Size 15½ w/32 inch sleeve

8405-00-NSH-0720—Size 15½ w/33 inch sleeve

8405-00-NSH-0721—Size 15½ w/34 inch sleeve

8405-00-NSH-0722—Size 15½ w/35 inch sleeve

8405-00-NSH-0723—Size 15½ w/36 inch sleeve

8405-00-NSH-0742—Size 15½ w/37 inch sleeve

8405-00-NSH-0743—Size 16 w/31 inch sleeve

8405-00-NSH-0744—Size 16 w/32 inch sleeve

8405-00-NSH-0745—Size 16 w/33 inch sleeve

8405-00-NSH-0746—Size 16 w/34 inch sleeve

8405-00-NSH-0750—Size 16½ w/31 inch sleeve

8405-00-NSH-0752—Size 16½ w/33 inch sleeve

8405-00-NSH-0753—Size 16½ w/34 inch sleeve

8405-00-NSH-0754—Size 16½ w/35 inch sleeve

8405-00-NSH-0756—Size 16½ w/37 inch sleeve

8405-00-NSH-0757—Size 17 w/31 inch sleeve

8405-00-NSH-0758—Size 17 w/32 inch sleeve

8405-00-NSH-0759—Size 17 w/33 inch sleeve

8405-00-NSH-0760—Size 17 w/34 inch sleeve

8405-00-NSH-0761—Size 17 w/35 inch sleeve

8405-00-NSH-0762—Size 17 w/36 inch sleeve

8405-00-NSH-0763—Size 17 w/37 inch sleeve

8405-00-NSH-0764—Size 17½ w/31 inch sleeve

8405-00-NSH-0765—Size 17½ w/32 inch sleeve

8405-00-NSH-0766—Size 17½ w/33 inch sleeve

8405-00-NSH-0767—Size 17½ w/34 inch sleeve

8405-00-NSH-0768—Size 17½ w/35 inch sleeve

8405-00-NSH-0769—Size 17½ w/36 inch sleeve

8405-00-NSH-0770—Size 17½ w/37 inch sleeve

8405-00-NSH-0771—Size 18 w/31 inch sleeve

8405-00-NSH-0772—Size 18 w/32 inch sleeve

8405-00-NSH-0773—Size 18 w/33 inch sleeve

8405-00-NSH-0774—Size 18 w/34 inch sleeve

8405-00-NSH-0775—Size 18 w/35 inch sleeve

8405-00-NSH-0776—Size 18 w/36 inch sleeve

8405-00-NSH-0777—Size 18 w/37 inch sleeve

8405-00-NSH-0778—Size 18½ w/31 inch sleeve

8405-00-NSH-0779—Size 18½ w/32 inch sleeve

8405-00-NSH-0780—Size 18½ w/33 inch sleeve

8405-00-NSH-0781—Size 18½ w/34 inch sleeve

8405-00-NSH-0782—Size 18½ w/35 inch sleeve

8405-00-NSH-0783—Size 18½ w/36 inch sleeve

8405-00-NSH-0784—Size 18½ w/37 inch sleeve

8405-00-NSH-0785—Size 19 w/31 inch sleeve

8405-00-NSH-0786—Size 19 w/32 inch sleeve

8405-00-NSH-0787—Size 19 w/33 inch sleeve

8405-00-NSH-0788—Size 19 w/34 inch sleeve

8405-00-NSH-0789—Size 19 w/35 inch sleeve

8405-00-NSH-0790—Size 19 w/36 inch sleeve

8405-00-NSH-0791—Size 19 w/37 inch sleeve

Shirt, Men's, Poly/Cotton, Short Sleeve

8405-00-NSH-0064—Size Medium Long

8405-00-NSH-0068—Size Large Long

8405-00-NSH-0098—Size X-Large Long

8405-00-NSH-0099—Size XX-Large Long

8405-00-NSH-0154—Size Small Regular

8405-00-NSH-0155—Size Medium Regular

8405-00-NSH-0156—Size Large Regular

8405-00-NSH-0157—Size X-Large Regular

8405-00-NSH-0158—Size XX-Large Regular

8405-00-NSH-0159—Size XXX-Large Regular

8405-00-NSH-0212—Size XXX-Large Long

Shirt, Polo, Knit LS White

8405-00-NSH-0812—Size Small

8405-00-NSH-0813—Size Medium

8405-00-NSH-0814—Size Large

8405-00-NSH-0815—Size X-Large

8405-00-NSH-0816—Size XX-Large

8405-00-NSH-0817—Size XXX-Large

Shirt, Polo, Knit SS White

8405-00-NSH-0172—Size Small

8405-00-NSH-0173—Size Medium

8405-00-NSH-0174—Size Large

8405-00-NSH-0175—Size X-Large

8405-00-NSH-0176—Size XX-Large

8405-00-NSH-0177—Size XXX-Large

Shirt, Polo, Knit, LS Putty

8405-00-NSH-0806—Size Small

8405-00-NSH-0807—Size Medium

8405-00-NSH-0808—Size Large

8405-00-NSH-0809—Size X-Large

8405-00-NSH-0810—Size XX-Large

8405-00-NSH-0811—Size XXX-Large

Shirt, Polo, Knit, SS Putty

8405-00-NSH-0166—Size Small

8405-00-NSH-0167—Size Medium

8405-00-NSH-0168—Size Large

8405-00-NSH-0169—Size X-Large

8405-00-NSH-0170—Size XX-Large

8405-00-NSH-0171—Size XXX-Large

Shirt, Women's, Cotton, Short Sleeve

8410-00-NSH-5953—Size 28 Regular

8410-00-NSH-5954—Size 30 Regular

8410-00-NSH-5955—Size 32 Regular

8410-00-NSH-5956—Size 32 Long

8410-00-NSH-5957—Size 34 Regular

8410-00-NSH-5958—Size 34 Long

8410-00-NSH-5959—Size 36 Regular

8410-00-NSH-5960—Size 36 Long

8410-00-NSH-5961—Size 38 Regular

8410-00-NSH-5962—Size 38 Long

8410-00-NSH-5963—Size 40 Regular

8410-00-NSH-5964—Size 40 Long

8410-00-NSH-5965—Size 42 Regular

8410-00-NSH-5966—Size 42 Long

8410-00-NSH-5967—Size 44 Regular

8410-00-NSH-5968—Size 44 Long

8410-00-NSH-5969—Size 46 Regular

8410-00-NSH-5970—Size 46 Long

8410-00-NSH-5971—Size 48 Regular

8410-00-NSH-5972—Size 48 Long

Shirt, Women's, Cotton, Long Sleeve

8410-00-NSH-5933—Size 28 Regular

8410-00-NSH-5934—Size 30 Regular

8410-00-NSH-5935—Size 32 Regular

8410-00-NSH-5936—Size 32 Long

8410-00-NSH-5937—Size 34 Regular

8410-00-NSH-5938—Size 34 Long

8410-00-NSH-5939—Size 36 Regular

8410-00-NSH-5940—Size 36 Long

8410-00-NSH-5941—Size 38 Regular

8410-00-NSH-5942—Size 38 Long

8410-00-NSH-5943—Size 40 Regular

8410-00-NSH-5944—Size 40 Long

8410-00-NSH-5945—Size 42 Regular

8410-00-NSH-5946—Size 42 Long

8410-00-NSH-5947—Size 44 Regular

8410-00-NSH-5948—Size 44 Long

8410-00-NSH-5949—Size 46 Regular

8410-00-NSH-5950—Size 46 Long

8410-00-NSH-5951—Size 48 Regular

8410-00-NSH-5952—Size 48 Long

Shirt, Women's, Poly/Cotton, Long Sleeve

8410-00-NSH-6056—Size 28 Regular

8410-00-NSH-6057—Size 30 Regular

8410-00-NSH-6058—Size 32 Regular

8410-00-NSH-6059—Size 32 Long

8410-00-NSH-6060—Size 34 Regular

8410-00-NSH-6061—Size 34 Long

8410-00-NSH-6062—Size 36 Regular

8410-00-NSH-6063—Size 36 Long

8410-00-NSH-6064—Size 38 Regular

8410-00-NSH-6065—Size 38 Long

8410-00-NSH-6066—Size 40 Regular

8410-00-NSH-6067—Size 40 Long

8410-00-NSH-6068—Size 42 Regular

8410-00-NSH-6069—Size 42 Long

8410-00-NSH-6070—Size 44 Regular

8410-00-NSH-6071—Size 44 Long

8410-00-NSH-6072—Size 46 Regular

8410-00-NSH-6073—Size 46 Long

8410-00-NSH-6074—Size 48 Regular

8410-00-NSH-6075—Size 48 Long

Shirt, Women's, Poly/Cotton, Short Sleeve

8410-00-NSH-6076—Size 28 Regular

8410-00-NSH-6077—Size 30 Regular

8410-00-NSH-6078—Size 32 Regular

8410-00-NSH-6079—Size 32 Long

8410-00-NSH-6080—Size 34 Regular

8410-00-NSH-6081—Size 34 Long

8410-00-NSH-6082—Size 36 Regular

8410-00-NSH-6083—Size 36 Long

8410-00-NSH-6084—Size 38 Regular

8410-00-NSH-6085—Size 38 Long

8410-00-NSH-6086—Size 40 Regular

8410-00-NSH-6087—Size 40 Long

8410-00-NSH-6088—Size 42 Regular

8410-00-NSH-6089—Size 42 Long

8410-00-NSH-6090—Size 44 Regular

8410-00-NSH-6091—Size 44 Long

8410-00-NSH-6092—Size 46 Regular

8410-00-NSH-6093—Size 46 Long

8410-00-NSH-6094—Size 48 Regular

8410-00-NSH-6095—Size 48 Long

Shirts, Law Enforcement, Men's Long Sleeve, Poly/C

8405-00-NSH-0544—Size 14½ Sleeve Length 31″

8405-00-NSH-0545—Size 14½ Sleeve Length 33″

8405-00-NSH-0546—Size 15 Sleeve Length 31″

8405-00-NSH-0547—Size 15 Sleeve Length 33″

8405-00-NSH-0548—Size 15 Sleeve Length 35″

8405-00-NSH-0549—Size 15½ Sleeve Length 31″

8405-00-NSH-0550—Size 15½ Sleeve Length 33″

8405-00-NSH-0551—Size 15½ Sleeve Length 35″

8405-00-NSH-0552—Size 15½ Sleeve Length 37″

8405-00-NSH-0553—Size 16 Sleeve Length 31″

8405-00-NSH-0554—Size 16 Sleeve Length 33″

8405-00-NSH-0555—Size 16 Sleeve Length 35″

8405-00-NSH-0556—Size 16 Sleeve Length 37″

8405-00-NSH-0557—Size 16½ Sleeve Length 33″

8405-00-NSH-0558—Size 16½ Sleeve Length 35″

8405-00-NSH-0559—Size 16½ Sleeve Length 37″

8405-00-NSH-0560—Size 17 Sleeve Length 33″

8405-00-NSH-0561—Size 17 Sleeve Length 35″

8405-00-NSH-0562—Size 17 Sleeve Length 37″

8405-00-NSH-0563—Size 17½ Sleeve Length 33″

8405-00-NSH-0564—Size 17½ Sleeve Length 35″

8405-00-NSH-0565—Size 17½ Sleeve Length 37″

8405-00-NSH-0566—Size 18 Sleeve Length 33″

8405-00-NSH-0567—Size 18 Sleeve Length 35″

8405-00-NSH-0568—Size 18 Sleeve Length 37″

8405-00-NSH-0569—Size 18½ Sleeve Length 33″

8405-00-NSH-0570—Size 18½ Sleeve Length 35″

8405-00-NSH-0571—Size 18½ Sleeve Length 37″

8405-00-NSH-0572—Size 19 Sleeve Length 33″

8405-00-NSH-0573—Size 19 Sleeve Length 35″

8405-00-NSH-0574—Size 19 Sleeve Length 37″

Shirts, Law Enforcement, Men's, Short Sleeve, Poly

8405-00-NSH-0575—Size 14

8405-00-NSH-0576—Size 14½

8405-00-NSH-0577—Size 15

8405-00-NSH-0578—Size 15½

8405-00-NSH-0579—Size 16

8405-00-NSH-0580—Size 16½

8405-00-NSH-0581—Size 17

8405-00-NSH-0582—Size 17½

8405-00-NSH-0583—Size 18

8405-00-NSH-0584—Size 18½

8405-00-NSH-1075—Size 19

Shirts, Law Enforcement, Women's Long Sleeve, Poly

8405-00-NSH-0986B—Size 46 Long 34″

8410-00-NSH-6215—Size 28 Regular 30″

8410-00-NSH-6217—Size 32 Long 31″

8410-00-NSH-6262—Size 30 Regular 30″

8410-00-NSH-6263—Size 32 Regular 30″

8410-00-NSH-6264—Size 34 Regular 30″

8410-00-NSH-6265—Size 34 Long 31″

8410-00-NSH-6266—Size 36 Regular 31″

8410-00-NSH-6267—Size 36 Long 32″

8410-00-NSH-6268—Size 38 Regular 31″

8410-00-NSH-6269—Size 38 Long 32″

8410-00-NSH-6270—Size 40 Regular 32″

8410-00-NSH-6271—Size 40 Long 33″

8410-00-NSH-6272—Size 42 Regular 32″

8410-00-NSH-6273—Size 42 Long 33″

8410-00-NSH-6274—Size 44 Regular 33″

8410-00-NSH-6275—Size 46 Regular 33″

8410-00-NSH-6276—Size 48 Regular 34″

8410-00-NSH-6320—Size 48 Long 35″

8410-00-NSH-6322—Size 44 Long 34″

8410-00-NSH-6321—Size 48 Long 35″

Shirts, Law Enforcement, Women's Short Sleeve, Lig

8410-00-NSH-6219—Size 28 Regular

8410-00-NSH-6221—Size 28 Long

8410-00-NSH-6223—Size 30 Long

8410-00-NSH-6225—Size 32 Long

8410-00-NSH-6227—Size 34 Long

8410-00-NSH-6229—Size 36 Long

8410-00-NSH-6230—Size 38 Long

8410-00-NSH-6232—Size 40 Long

8410-00-NSH-6233—Size 42 Long

8410-00-NSH-6235—Size 44 Long

8410-00-NSH-6236—Size 46 Long

8410-00-NSH-6238—Size 48 Long

8410-00-NSH-6277—Size 30 Regular

8410-00-NSH-6278—Size 32 Regular

8410-00-NSH-6279—Size 34 Regular

8410-00-NSH-6280—Size 36 Regular

8410-00-NSH-6281—Size 38 Regular

8410-00-NSH-6282—Size 40 Regular

8410-00-NSH-6283—Size 42 Regular

8410-00-NSH-6284—Size 44 Regular

8410-00-NSH-6285—Size 46 Regular

8410-00-NSH-6286—Size 48 Regular

Shorts, Trail, Men's

8405-00-NSH-0091—Size 30

8405-00-NSH-0092—Size 32

8405-00-NSH-0093—Size 34

8405-00-NSH-0094—Size 36

8405-00-NSH-0095—Size 38

8405-00-NSH-0096—Size 40

8405-00-NSH-0097—Size 42

Shorts, Trail, Women's

8410-00-NSH-5997—Size 4

8410-00-NSH-5998—Size 6

8410-00-NSH-5999—Size 8

8410-00-NSH-6000—Size 10

8410-00-NSH-6001—Size 12

8410-00-NSH-6002—Size 14

8410-00-NSH-6003—Size 16

8410-00-NSH-6004—Size 18

8410-00-NSH-6005—Size 20

Shoulder Board, Honor Guard

8455-00-NSH-0021

Silver Nameplate, Silver

8455-00-NSH-0022

Skirt, Women's

8410-00-NSH-6177—Size 26 Regular

8410-00-NSH-6224—Size 4 Regular

8410-00-NSH-6226—Size 6 Regular

8410-00-NSH-6228—Size 8 Regular

8410-00-NSH-6231—Size 10 Regular

8410-00-NSH-6234—Size 12 Regular

8410-00-NSH-6237—Size 14 Regular

8410-00-NSH-6239—Size 16 Regular

8410-00-NSH-6241—Size 18 Regular

8410-00-NSH-6243—Size 20 Regular

8410-00-NSH-6245—Size 22 Regular

8410-00-NSH-6247—Size 24 Regular

Slacks, Field, Men's, Light Green, 50% Polyester/5

8405-00-NSH-0053—Size 28 Regular

8405-00-NSH-0055—Size 29 Regular

8405-00-NSH-0057—Size 30 Regular

8405-00-NSH-0059—Size 31 Regular

8405-00-NSH-0061—Size 32 Regular

8405-00-NSH-0062—Size 32 Long

8405-00-NSH-0063—Size 33 Regular

8405-00-NSH-0065—Size 34 Regular

8405-00-NSH-0066—Size 34 Long

8405-00-NSH-0067—Size 35 Regular

8405-00-NSH-0069—Size 36 Regular

8405-00-NSH-0070—Size 36 Long

8405-00-NSH-0071—Size 37 Regular

8405-00-NSH-0073—Size 38 Regular

8405-00-NSH-0074—Size 38 Long

8405-00-NSH-0075—Size 40 Regular

8405-00-NSH-0076—Size 40 Long

8405-00-NSH-0077—Size 42 Regular

8405-00-NSH-0078—Size 42 Long

8405-00-NSH-0079—Size 44 Regular

8405-00-NSH-0080—Size 44 Long

8405-00-NSH-0081—Size 46 Regular

8405-00-NSH-0082—Size 46 Long

8405-00-NSH-0083—Size 48 Regular

8405-00-NSH-0085—Size 50 Regular

8405-00-NSH-0087—Size 52 Regular

8405-00-NSH-0089—Size 54 Regular

Slacks, Field, Women's, Polyester Cotton

8410-00-NSH-5973—Size 4 Regular

8410-00-NSH-5974—Size 6 Tall

8410-00-NSH-5975—Size 6 Regular

8410-00-NSH-5977—Size 8 Regular

8410-00-NSH-5979—Size 8 Tall

8410-00-NSH-5980—Size 10 Regular

8410-00-NSH-5982—Size 10 Tall

8410-00-NSH-5983—Size 12 Regular

8410-00-NSH-5985—Size 12 Tall

8410-00-NSH-5986—Size 14 Regular

8410-00-NSH-5988—Size 14 Tall

8410-00-NSH-5989—Size 16 Regular

8410-00-NSH-5990—Size 16 Tall

8410-00-NSH-5991—Size 18 Regular

8410-00-NSH-5992—Size 18 Tall

8410-00-NSH-5993—Size 20 Regular

8410-00-NSH-5994—Size 20 Tall

8410-00-NSH-5995—Size 22 Regular

8410-00-NSH-5996—Size 24 Regular

Slacks, Maternity

8410-00-NSH-6258—Size Small

8410-00-NSH-6259—Size Medium

8410-00-NSH-6260—Size Large

8410-00-NSH-6261—Size X-Large

Sweater, FS Vest, V-Neck

8405-00-NSH-0598—Size Small

8405-00-NSH-0599—Size Medium

8405-00-NSH-0600—Size Large

8405-00-NSH-0601—Size X-Large

8405-00-NSH-0602—Size XX-Large

8405-00-NSH-0986—Size XXX-Large

Sweater, V-Neck, Unisex

8405-00-NSH-0792—Size X-Small

8405-00-NSH-0793—Size Small

8405-00-NSH-0794—Size Medium

8405-00-NSH-0795—Size Large

8405-00-NSH-0796—Size X-Large

8405-00-NSH-0797—Size XX-Large

8405-00-NSH-0798—Size XXX-Large

Tie

8405-00-NSH-0445—Clip On—17″ FS120

8405-00-NSH-0446—Four-In-Hand FS130

8405-00-NSH-0447—Floppy Bow FS121

8405-00-NSH-0448—Four-In-Hand SM150

8405-00-NSH-0449—Clip On Short SM160

8405-00-NSH-0450—Clip On Regular

8405-00-NSH-0451—Clip On Long

8405-00-NSH-0452—Floppy Bow SM170

Trouser, Bib Wool

8405-00-NSH-1050—Size Small

8405-00-NSH-1051—Size Medium

8405-00-NSH-1052—Size X-Large

8405-00-NSH-1053—Size XX-Large

8405-00-NSH-1054—Size XXX-Large

Trousers, Men's for Dress Uniform

8405-00-NSH-0409—Size 28 Short Rise

8405-00-NSH-0410—Size 28 Regular Rise

8405-00-NSH-0411—Size 29 Regular Rise

8405-00-NSH-0412—Size 30 Short Rise

8405-00-NSH-0413—Size 30 Regular Rise

8405-00-NSH-0414—Size 31 Short Rise

8405-00-NSH-0415—Size 31 Regular Rise

8405-00-NSH-0416—Size 32 Short Rise

8405-00-NSH-0417—Size 32 Regular Rise

8405-00-NSH-0418—Size 32 Long Rise

8405-00-NSH-0419—Size 33 Short Rise

8405-00-NSH-0420—Size 33 Regular Rise

8405-00-NSH-0421—Size 34 Short Rise

8405-00-NSH-0422—Size 34 Regular Rise

8405-00-NSH-0423—Size 34 Long Rise

8405-00-NSH-0424—Size 35 Regular Rise

8405-00-NSH-0425—Size 36 Short Rise

8405-00-NSH-0426—Size 36 Regular Rise

8405-00-NSH-0427—Size 36 Long Rise

8405-00-NSH-0428—Size 37 Regular Rise

8405-00-NSH-0429—Size 38 Short Rise

8405-00-NSH-0430—Size 38 Regular Rise

8405-00-NSH-0431—Size 38 Long Rise

8405-00-NSH-0432—Size 40 Short Rise

8405-00-NSH-0433—Size 40 Regular Rise

8405-00-NSH-0434—Size 40 Long Rise

8405-00-NSH-0435—Size 42 Regular Rise

8405-00-NSH-0436—Size 42 Long Rise

8405-00-NSH-0437—Size 44 Regular Rise

8405-00-NSH-0438—Size 44 Long Rise

8405-00-NSH-0439—Size 46 Regular Rise

8405-00-NSH-0440—Size 46 Long Rise

8405-00-NSH-0441—Size 48 Regular Rise

8405-00-NSH-0442—Size 50 Regular Rise

8405-00-NSH-0443—Size 52 Regular Rise

8405-00-NSH-0444—Size 54 Regular Rise

8405-00-NSH-0969—Size 29 Short Rise

8405-00-NSH-0970—Size 35 Short Rise

8405-00-NSH-0971—Size 37 Short Rise

8405-00-NSH-0972—Size 42 Short Rise

8405-00-NSH-0973—Size 44 Short Rise

8405-00-NSH-0974—Size 48 Long Rise

8405-00-NSH-0975—Size 50 Long Rise

8405-00-NSH-0976—Size 52 Long Rise

8405-00-NSH-0977—Size 54 Long Rise

8405-00-NSH-0978—Size 56 Regular Rise

8405-00-NSH-0979—Size 56 Long Rise

8405-00-NSH-0980—Size 58 Regular Rise

8405-00-NSH-0981—Size 58 Long Rise

8405-00-NSH-0982—Size 60 Regular Rise

8405-00-NSH-0983—Size 60 Long Rise

Trousers, Men's Honor Guard

8405-00-NSH-0884—Size 28 Short

8405-00-NSH-0885—Size 28 Regular

8405-00-NSH-0886—Size 32 Short

8405-00-NSH-0887—Size 30 Regular

8405-00-NSH-0888—Size 34 Short

8405-00-NSH-0889—Size 32 Regular

8405-00-NSH-0890—Size 34 Long

8405-00-NSH-0891—Size 36 Short

8405-00-NSH-0892—Size 34 Regular

8405-00-NSH-0893—Size 36 Long

8405-00-NSH-0894—Size 38 Short

8405-00-NSH-0895—Size 36 Regular

8405-00-NSH-0896—Size 38 Long

8405-00-NSH-0897—Size 40 Short

8405-00-NSH-0898—Size 38 Regular

8405-00-NSH-0899—Size 40 Long

8405-00-NSH-0900—Size 42 Short

8405-00-NSH-0901—Size 40 Regular

8405-00-NSH-0902—Size 42 Long

8405-00-NSH-0903—Size 44 Short

8405-00-NSH-0904—Size 42 Regular

8405-00-NSH-0905—Size 44 Long

8405-00-NSH-0906—Size 44 Regular

8405-00-NSH-0907—Size 46 Long

8405-00-NSH-0908—Size 46 Regular

8405-00-NSH-0909—Size 48 Long

8405-00-NSH-0910—Size 48 Regular

8405-00-NSH-0911—Size 50 Long

8405-00-NSH-0912—Size 50 Regular

8405-00-NSH-0913—Size 52 Long

8405-00-NSH-0914—Size 52 Regular

8405-00-NSH-0915—Size 54 Long

8405-00-NSH-0916—Size 54 Regular

8405-00-NSH-0917—Size 56 Long

8405-00-NSH-0918—Size 56 Regular

8405-00-NSH-0919—Size 60 Long

Trousers, Women's for Dress Uniform

8410-00-NSH-6176—Size 26 Regular

8410-00-NSH-6199—Size 4 Regular

8410-00-NSH-6201—Size 6 Regular

8410-00-NSH-6203—Size 8 Regular

8410-00-NSH-6206—Size 10 Regular

8410-00-NSH-6209—Size 12 Regular

8410-00-NSH-6212—Size 14 Regular

8410-00-NSH-6214—Size 16 Regular

8410-00-NSH-6216—Size 18 Regular

8410-00-NSH-6218—Size 20 Regular

8410-00-NSH-6220—Size 22 Regular

8410-00-NSH-6222—Size 24 Regular

Trousers, Women's, Honor Guard

8410-00-NSH-6157—Size 4

8410-00-NSH-6158—Size 6

8410-00-NSH-6159—Size 8

8410-00-NSH-6160—Size 10

8410-00-NSH-6161—Size 12

8410-00-NSH-6162—Size 14

8410-00-NSH-6163—Size 16

8410-00-NSH-6164—Size 18

8410-00-NSH-6165—Size 20

8410-00-NSH-6171—Size 22

8410-00-NSH-6172—Size 24

Vest, Men's, Field

8405-00-NSH-0327—Size Small Regular

8405-00-NSH-0329—Size Medium Regular

8405-00-NSH-0330—Size Medium Long

8405-00-NSH-0331—Size Large Regular

8405-00-NSH-0332—Size Large Long

8405-00-NSH-0333—Size X-Large Regular

8405-00-NSH-0334—Size X-Large Long

8405-00-NSH-0335—Size XX-Large Regular

8405-00-NSH-0336—Size XX-Large Long

Vest, SCSEP

8405-00-NSH-0531—Size Small

8405-00-NSH-0532—Size Medium

8405-00-NSH-0533—Size Large

8405-00-NSH-0534—Size X-Large

8405-00-NSH-0985—Size X-Small

Vest, V-Neck, Unisex—FS226

8405-00-NSH-0799—Size X-Small

8405-00-NSH-0805—Size XXX-Large

Vest, V-Neck, Unisex—FS227

8405-00-NSH-0800—Size Small

Vest, V-Neck, Unisex—FS228

8405-00-NSH-0801—Size Medium

Vest, V-Neck, Unisex—FS229

8405-00-NSH-0802—Size Large

Vest, V-Neck, Unisex—FS230

8405-00-NSH-0803—Size X-Large

Vest, V-Neck, Unisex—FS231

8405-00-NSH-0804—Size XX-Large

Vest, Volunteer

8405-00-NSH-0524—Size XX-Small

8405-00-NSH-0525—Size X-Small

8405-00-NSH-0526—Size Small

8405-00-NSH-0527—Size Medium

8405-00-NSH-0528—Size Large

8405-00-NSH-0529—Size X-Large

8405-00-NSH-0530—Size XX-Large

Vest, Women's, Field

8410-00-NSH-6138—Size Small

8410-00-NSH-6139—Size Medium

8410-00-NSH-6140—Size Large

8410-00-NSH-6141—Size X-Large

8410-00-NSH-6287—Size X-Small

Volunteer Patches (Pkg. of 10)

8455-00-NSH-0012

Windbreaker, SCSEP

8405-00-NSH-0537—Size Medium

8405-00-NSH-0538—Size Large

8405-00-NSH-0539—Size X-Large

8405-00-NSH-1060—Size Small

Windbreaker, Unisex

8405-00-NSH-0264—Size X-Small Regular

8405-00-NSH-0265—Size Small Regular

8405-00-NSH-0266—Size Medium Regular

8405-00-NSH-0267—Size Large Regular

8405-00-NSH-0268—Size Large Long

8405-00-NSH-0269—Size X-Large Regular

8405-00-NSH-0270—Size X-Large Long

8405-00-NSH-0271—Size XX-Large Regular

8405-00-NSH-0272—Size XX-Large Long

Windbreaker, Volunteer

8405-00-NSH-0515—Size X-Small Regular

8405-00-NSH-0516—Size Small Regular

8405-00-NSH-0517—Size Medium Regular

8405-00-NSH-0518—Size Large Regular

8405-00-NSH-0519—Size Large Long

8405-00-NSH-0520—Size X-Large Regular

8405-00-NSH-0521—Size X-Large Long

8405-00-NSH-0522—Size XX-Large Regular

8405-00-NSH-0523—Size XX-Large Long

NPA: Human Technologies Corporation, Utica, NY.

Contracting Activity: USDA, Forest Service, Washington, DC.

SERVICES

Service Type/Location: Custodial Services, Army Reserve Contracting Center, Coraopolis Satellite Office, PA178 West Pointe Corp Three, 1605 Coraopolis Heights Road, Coraopolis, Pennsylvania.

NPA: Hancock County Sheltered Workshop, Inc., Weirton, West Virginia.

Contracting Activity: 99th Regional Support Command, Coraopolis, Pennsylvania.

Service Type/Location: Custodial Services, VA Charleston Consolidated Mail Out Pharmacy, 3725 Rivers Avenue, North Charleston, South Carolina.

NPA: OE Enterprises, Inc., Hillsborough, North Carolina.

Contracting Activity: VA-VISN 7-Atlanta Network, Duluth, Georgia.

Sheryl D. Kennerly,
Director, Information Management.

[FR Doc. E6-17580 Filed 10-19-06; 8:45 am]

BILLING CODE 6353-01-P